UNITED STATES INSTITUTE OF PEACE

Notice of Meeting

Date/Time: Thursday, January 10, 2008, 9:15 a.m.-3:30 p.m.

Location: 1200 17th Street, NW., Suite 200, Washington, DC 20036-3011.

Status: Open Session—Portions may be closed pursuant to subsection (c) of section 552(b) of title 5, United States Code, as provided in subsection 1706(h)(3) of the United States Institute of Peace Act, Public Law 98-525.

Agenda: January 10, 2008 Board Meeting; Approval of Minutes of the One Hundred Twenty-Eighth Meeting (September 20, 2007) of the Board of Directors; Chairman's Report; President's Report; Budget Discussion; Selection of National Peace Essay contest topic; Other General Issues.

Contact: Tessie F. Higgs, Executive Office, Telephone (202) 429-3836.

Dated: December 27, 2007.
Patricia P. Thomson,
Executive Vice President, United States Institute of Peace.

[FR Doc. 07-6291 Filed 1-3-08; 8:45 am]

BILLING CODE 6820-AR-M